DEPARTMENT OF COMMERCE

International Trade Administration

[A-570-848]

Freshwater Crawfish Tail Meat From the People's Republic of China: Initiation of Antidumping Duty New Shipper Reviews

AGENCY: Enforcement and Compliance, International Trade Administration, Department of Commerce.

DATES: Applicable October 18, 2017.

SUMMARY: Based on requests, the Department of Commerce (the Department) is initiating new shipper reviews (NSR) of the antidumping duty order on freshwater crawfish tail meat from the People's Republic of China (PRC) with respect to Anhui Luan Hongyuan Foodstuffs Co., Ltd. (Anhui Luan) and Kunshan Xinrui Trading Co., Ltd. (Kunshan Xinrui). We have determined that these requests meet the statutory and regulatory requirements for initiation.

FOR FURTHER INFORMATION CONTACT: Dmitry Vladimirov, AD/CVD Operations Office I, Enforcement and Compliance, International Trade Administration, U.S. Department of Commerce, 1401 Constitution Avenue NW., Washington, DC 20230; Telephone: (202) 482-0665.

SUPPLEMENTARY INFORMATION:

Background

The antidumping duty Order on freshwater crawfish tail meat from the PRC published in the Federal Register on September 15, 1997.¹ Pursuant to section 751(a)(2)(B)(i) of the Tariff Act of 1930, as amended (the Act), the Department received timely and properly filed requests for a NSR of the Order from Anhui Luan and Kunshan Xinrui during the anniversary month of the antidumping duty Order.² In its request, Anhui Luan certified that it is both the producer and exporter of the subject merchandise upon which the request was based.³ In its request, Kunshan Xinrui certified that it is the exporter and Leping Yongle Food Co., Ltd. (Leping Yongle), is the producer of the subject merchandise upon which the request was based.⁴

¹ See Notice of Amendment to Final Determination of Sales at Less Than Fair Value and Antidumping Duty Order: Freshwater Crawfish Tail Meat from the People's Republic of China, 62 FR 48218 (September 15, 1997) (Order).

² See Letter from Anhui Luan, “Freshwater Crawfish Tail Meat from the People's Republic of China Request for New-Shipper Review,” dated September 15, 2017 (Anhui Luan's NSR Request), and Letter from Kunshan Xinrui, “Freshwater Crawfish Tail Meat from People's Republic of China: Request for New Shipper Review,” dated September 19, 2017 (Kunshan Xinrui's NSR Request).

³ See Anhui Luan's NSR Request at Attachment 1.

⁴ See Kunshan Xinrui's NSR Request at Exhibit 1.

Pursuant to section 751(a)(2)(B)(i)(I) of the Act and 19 CFR 351.214(b)(2)(i), Anhui Luan certified that it did not export subject merchandise to the United States during the period of investigation (POI).⁵ Similarly, pursuant to section 751(a)(2)(B)(i)(I) of the Act and 19 CFR 351.214(b)(2)(ii)(A) and 19 CFR 351.214(b)(2)(ii)(B), Kunshan Xinrui and Leping Yongle each certified, respectively, that they did not export subject merchandise to the United States during the POI.⁶ In addition, pursuant to section 751(a)(2)(B)(i)(II) of the Act and 19 CFR 351.214(b)(2)(iii)(A), Anhui Luan, Kunshan Xinrui, and Leping Yongle each certified, respectively, that, since the initiation of the investigation, they have never been affiliated with any exporter or producer who exported subject merchandise to the United States during the POI, including those respondents not individually examined during the POI.⁷ As required by 19 CFR 351.214(b)(2)(iii)(B), Anhui Luan and Kunshan Xinrui also certified, respectively, that their export activities were not controlled by the government of the PRC.⁸

⁵ See Anhui Luan's NSR Request at Attachment 1.

⁶ See Kunshan Xinrui's NSR Request at Exhibit 1.

⁷ See Anhui Luan's NSR Request at Attachment 1; Kunshan Xinrui's NSR Request at Exhibit 1.

⁸ Id.

In addition to the certifications described above, pursuant to 19 CFR 351.214(b)(2)(iv), Anhui Luan and Kunshan Xinrui each submitted respective documentation establishing the following: (1) The date on which it first shipped subject merchandise for export to the United States; (2) the volume of its first shipment and subsequent shipments; and (3) the date of its first sale to an unaffiliated customer in the United States.⁹

⁹ See Anhui Luan's NSR Request at Attachment 2; Kunshan Xinrui's NSR Request at Exhibit 2.

Period of Review

In accordance with 19 CFR 351.214(g)(1)(i)(A), the period of review (POR) for a NSR initiated in the month immediately following the anniversary month will be the twelve-month period immediately preceding the anniversary month. Therefore, the POR for these NSRs is September 1, 2016, through August 31, 2017.

Initiation of New Shipper Reviews

Pursuant to section 751(a)(2)(B) of the Act and 19 CFR 351.214(b), we find that the requests from Anhui Luan and Kunshan Xinrui meet the threshold requirements for initiation of (1) a NSR for shipments of freshwater crawfish tail meat from the PRC produced and exported during the POR by Anhui Luan,¹⁰ and (2) a NSR for shipments of freshwater crawfish tail meat from the PRC produced by Leping Yongle and exported during the POR by Kunshan Xinrui.¹¹

¹⁰ See the Memorandum, “Freshwater Crawfish Tail Meat from the People's Republic of China: Initiation Checklist for Antidumping Duty New Shipper Review of Anhui Luan Hongyuan Foodstuffs Co., Ltd.,” dated concurrently with this notice.

¹¹ See the Memorandum, “Freshwater Crawfish Tail Meat from the People's Republic of China: Initiation Checklist for Antidumping Duty New Shipper Review of Kunshan Xinrui Trading Co., Ltd.,” dated concurrently with this notice.

The Trade Facilitation and Trade Enforcement Act of 2015 ¹² amended section 751(a)(2)(B) of the Act, including provisions which apply to these NSRs. Specifically, the TFTEA amended the Act so that, as of February 24, 2016, the Department no longer instructs U.S. Customs and Border Protection (CBP) to allow an importer the option of posting a bond or security in lieu of a cash deposit during the pendency of a NSR.

¹² The Trade Facilitation and Trade Enforcement Act of 2015, H.R. 644, Public Law 114-125 (February 24, 2016) (TFTEA).

Unless extended, the Department intends to issue the preliminary results of these NSRs no later than 180 days from the date of initiation and final results of the reviews no later than 90 days after the date the preliminary results are issued.¹³

¹³ See section 751(a)(2)(B)(iii) of the Act.

It is the Department's usual practice, in cases involving non-market economy countries, to require that a company seeking to establish eligibility for an antidumping duty rate separate from the country-wide rate provide evidence of de jure and de facto absence of government control over the company's export activities. Accordingly, we will issue questionnaires to Anhui Luan and Kunshan Xinrui which will include a section requesting information concerning each company's eligibility for a separate rate. We will rescind the NSR of Anhui Luan or Kunshan Xinrui if we determine that either company has not demonstrated that it is eligible for a separate rate.

Because Anhui Luan certified that it produced and exported subject merchandise, the sale of which is the basis for its request for a NSR, we will instruct CBP to continue to suspend liquidation of all entries of subject merchandise produced and exported by Anhui Luan. Similarly, because Kunshan Xinrui certified that Leping Yongle produced subject merchandise that Kunshan Xinrui exported, the sale of which is the basis for its request for a NSR, we will instruct CBP to continue to suspend liquidation of all entries of subject merchandise produced by Leping Yongle and exported by Kunshan Xinrui.

To assist in its analysis of the bona fide nature of Anhui Luan's and Kunshan Xinrui's respective sales, upon initiation of these NSRs, the Department will require Anhui Luan and Kunshan Xinrui, respectively, to submit on an ongoing basis complete transaction information concerning any sales of subject merchandise to the United States that were made subsequent to the POR.

Interested parties requiring access to proprietary information in the NSRs should submit applications for disclosure under administrative protective order, in accordance with 19 CFR 351.305 and 351.306.

This initiation and notice are published in accordance with section 751(a)(2)(B) of the Act and 19 CFR 351.214 and 351.221(c)(1)(i).

Dated: October 12, 2017.
James Maeder,
Senior Director performing the duties of Deputy Assistant Secretary for Antidumping and Countervailing Duty Operations.

[FR Doc. 2017-22600 Filed 10-17-17; 8:45 am]

BILLING CODE 3510-DS-P